DEPARTMENT OF THE INTERIOR

National Park Service

Notice of Inventory Completion: U.S. Department of Defense, Army Corps of Engineers, Portland District, Portland, OR and University of Oregon Museum of Natural and Cultural History, Eugene, OR

AGENCY: National Park Service, Interior.

ACTION: Notice.

Notice is here given in accordance with the Native American Graves Protection and Repatriation Act (NAGPRA), 25 U.S.C. 3003, of the completion of an inventory of human remains and associated funerary objects for which the University of Oregon Museum of Natural and Cultural History, Eugene, OR, and U.S. Department of Defense, Army Corps of Engineers, Portland District, Portland, OR, have joint responsibility. The human remains and associated funerary objects were removed from sites on Army Corps of Engineers land within the The Dalles Lock and Dam Project area, Wasco County, OR.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the University of Oregon Museum of Natural and Cultural History and U.S. Army Corps of Engineers, Portland District professional staff in consultation with representatives of the Confederated Tribes of the Warm Springs Reservation of Oregon and Confederated Tribes and Bands of the Yakama Nation, Washington.

Native American cultural items described in this notice were excavated under Antiquities Act permits by the University of Oregon, Eugene, OR, on Army Corps of Engineers project lands. Following excavations at the sites described below, and under the provisions of the permits, the University of Oregon was allowed to retain the collections for preservation.

In 1956, human remains representing a minimum of three individuals were removed from site 35-WS-1/WS-2, also known as the Big Eddy Site, Wasco County, OR, during excavations conducted by the University of Oregon prior to construction of The Dalles Dam. No known individuals were identified. No associated funerary objects are present.

Site 35-WS-1/WS-2 is located 5 miles east of the city of The Dalles, OR, on the south shore of the Columbia River. The site is described as a Wasco village and midden site dating from the Late Prehistoric through Historic periods. Based on the location of the human remains within the site, the individuals have been determined to be Native American.

In 1954, human remains representing a minimum of eight individuals were removed from the Five Mile Rapids Site (35-WS-4), on the south shore of the Columbia River within The Dalles Lock and Dam Project area, Wasco County, OR, by the University of Oregon in conjunction with studies undertaken prior to the construction of The Dalles Dam. No known individuals were identified. The 515 associated funerary objects are 1 knife blade; 2 knives with wooden handles; 1 knife with a bone handle; 1 knife with a copper handle; 1 adze blade; 1 iron hatchet head; 1 projectile point fragment; 2 sturgeon hooks; 2 eyelets with springs; 2 composite harpoons; 1 fish scaler; 1 copper handle fragment; 10 decorated copper disks; 3 undecorated copper disks; 36 copper buttons; 1 phoenix button; 1 ring around a bear claw; 371 glass beads; 1 shell bead; 30 dentalium beads; 1 fragmentary copper tube bead; 3 stone beads; 1 bone bead; 1 lot of assorted beads, nails, and glass specimens; 1 reed fragment; 9 elk tooth ornaments; 7 complete and fragmentary dentalium shells; 3 carved bone fragments; 1 steatite cup; 1 steatite pipe; 1 Northwest Company token; 2 red ochre specimens; 1 iron ore specimen; 4 mirror and glass fragments; 2 petrified wood pieces; 2 antler pieces; 1 container of wood, bone, iron, and lead pieces; 1 bag of cut bone and wood pieces; 1 bag of wood pieces; 1 lock of hair; 1 lot of fragmentary iron strips; and 1 lot of bark fragments.

Site 35-WS-4, sometimes referred to as 35-WS-8 or The Dalles Roadcut Site, is located approximately 2 miles northeast of The Dalles Dam at what was once the headwaters of (the now-inundated) Five Mile Rapids. The Five Mile Rapids Site is described as a possible village site dating to between 11,000 B.P. and historic times. The site was last occupied in the 19th Century as a Tenino summer fishing village. Based on the associated funerary objects, the human remains have been determined to be Native American.

In 1954, human remains representing a minimum of seven individuals were removed from site 35-WS-5, Wasco County, OR, during excavations conducted by the University of Oregon prior to construction of The Dalles Dam. Two additional individuals were removed at a later, unknown date, possibly during salvage operations in 1961. No known individuals were identified. No associated funerary objects are present.

Site 35-WS-5 is located on the south shore of the Columbia River, approximately 2 miles east of The Dalles Dam. The site is described as a permanent village that was occupied prior to A.D. 1800. The site was inundated by Lake Celilo after the construction of The Dalles Lock and Dam. Based on osteological evidence and the location of the human remains within the site, the individuals have been determined to be Native American.

The sites described above are within the traditional lands of the present-day Confederated Tribes of the Warm Springs Reservation of Oregon, which is composed of three Wasco bands, four Warm Springs bands and Northern Paiutes. The Columbia River-based Wasco were the easternmost group of Chinookan-speaking Indians. The Sahaptin-speaking Warm Springs bands lived farther east along the Columbia River and its tributaries. Northern Paiutes, who spoke a Uto-Aztecan language, historically occupied much of southeastern Oregon. The Confederated Tribes of the Warm Springs Reservation of Oregon peoples also traditionally shared the site area with relatives and neighbors whose descendants may be culturally affiliated with the 14 Sahaptin, Salish and Chinookan-speaking tribes and bands of the present-day Confederated Tribes and Bands of the Yakama Nation, Washington. Yakama homelands were traditionally located on the Washington side of the Columbia River between the eastern flanks of the Cascade Range and the lower reaches of the Yakima River drainage.

Officials of the U.S. Army Corps of Engineers, Portland District have determined that, pursuant to 25 U.S.C. 3001 (9-10), the human remains described above represent the physical remains of 20 individuals of Native American ancestry. Officials of the U.S. Army Corps of Engineers, Portland District have also determined that, pursuant to 25 U.S.C. 3001 (3)(A), the 515 objects described above are reasonably believed to have been placed with or near individual human remains at the time of death or later as part of the death rite or ceremony. Lastly, officials of the U.S. Army Corps of Engineers, Portland District have determined that, pursuant to 25 U.S.C. 3001 (2), there is a relationship of shared group identity that can be reasonably traced between the Native American human remains and associated funerary objects and the Confederated Tribes of the Warm Springs Reservation of Oregon and/or Confederated Tribes and Bands of the Yakama Nation, Washington.

Representatives of any other Indian tribe that believes itself to be culturally affiliated with the human remains and associated funerary objects should contact Daniel Mulligan, NAGPRA Coordinator, Environmental Resources Branch, U.S. Army Corps of Engineers, Portland District, P.O. Box 2946, Portland, OR 97208-2946, telephone (503) 808-4768, before November 20, 2008. Repatriation of the human remains and associated funerary objects to the Confederated Tribes of the Warm Springs Reservation of Oregon and/or Confederated Tribes and Bands of the Yakama Nation, Washington may proceed after that date if no additional claimants come forward.

The U.S. Army Corps of Engineers, Portland District is responsible for notifying the Confederated Tribes of the Warm Springs Reservation of Oregon and Confederated Tribes and Bands of the Yakama Nation, Washington that this notice has been published.

Dated: September 10, 2008.
Sherry Hutt,
Manager, National NAGPRA Program.

[FR Doc. E8-24967 Filed 10-20-08; 8:45 am]

BILLING CODE 4312-50-S